DEPARTMENT OF ENERGY

Office of Energy Efficiency and Renewable Energy

10 CFR Part 430

[Docket No. EE-RM/STD-0129]

RIN 1904-AA90

Energy Conservation Program for Consumer Products: Energy Conservation Standards for Residential Water Heaters, Direct Heating Equipment, and Pool Heaters

AGENCY: Office of Energy Efficiency and Renewable Energy, Department of Energy.

ACTION: Notice of extension of comment period for Framework workshop.

SUMMARY: The Department of Energy (DOE) has commenced a rulemaking to amend the existing energy conservation standards for residential water heaters, direct heating equipment, and pool heaters. On November 24, 2006, the DOE published in the Federal Register (FR) a notice of public meeting and availability of Framework Document for this rulemaking wherein it indicated that the comment period for this initial phase of the rulemaking closes on January 30, 2007. 71 FR 67825. On January 16, 2007, DOE held an informal public meeting to present its proposed methodologies for conducting the rulemaking, discuss issues relevant to the rulemaking proceeding, and initiate stakeholder interaction and the data collection process. Due to the extensive scope of material and issues raised at the meeting, some stakeholders at the public meeting requested an extension to the comment period. This notice extends the comment period to better provide opportunity for public review and comment on DOE's rulemaking approaches.

DATES: DOE will accept comments until February 13, 2007.

ADDRESSES: DOE will accept comments, data, and information regarding the proposed rule no later than the date provided in the DATES section. Any comments submitted must include the docket number EE-2006-STD-0129 and/or Regulatory Information Number (RIN) 1904-AA90. Comments may be submitted using any of the following methods:

1. Federal eRulemaking Portal: http://www.regulations.gov. Follow the instructions for submitting comments.

2. E-mail: ResWaterDirectPoolHtrs@ee.doe.gov. Include the docket number EE-2006-STD-0129 and/or RIN 1904-AA90 in the subject line of the message.

3. Mail: Ms. Brenda Edwards-Jones, U.S. Department of Energy, Building Technologies Program, Mailstop EE-2J, 1000 Independence Avenue, SW., Washington, DC 20585-0121. Please submit one signed original paper copy.

4. Hand Delivery/Courier: Ms. Brenda Edwards-Jones, U.S. Department of Energy, Building Technologies Program, Room 1J-018, 1000 Independence Avenue, SW., Washington, DC 20585. Telephone: (202) 586-2945. Please submit one signed original paper copy.

Electronic comments must be submitted in WordPerfect, Microsoft Word, Portable Document Format (PDF), or text (ASCII) file format. Avoid the use of special characters or any form of encryption.

Copies of public comments may be examined in the Resource Room of the Appliance Standards Office of the Building Technologies Program, Room 1J-018 in the Forrestal Building at the U.S. Department of Energy, 1000 Independence Avenue, SW., Washington, DC, between the hours of 9 a.m. and 4 p.m., Monday through Friday, except Federal holidays. Please call Ms. Brenda Edwards-Jones at the above telephone number for additional information about visiting the Resource Room. Please note: the DOE's Freedom of Information Reading Room (formerly Room 1E-190 at the Forrestal Building) is no longer servicing rulemakings.

FOR FURTHER INFORMATION CONTACT: Mohammed Khan, U.S. Department of Energy, Office of Energy Efficiency and Renewable Energy, Forrestal Building, Mailstop EE-2J, 1000 Independence Avenue, SW., Washington, DC 20585-0121, (202) 586-7892, E-mail: Mohammed.Khan@ee.doe.gov; or Francine Pinto, U.S. Department of Energy, Office of General Counsel, Forrestal Building, Mailstop GC-72, 1000 Independence Avenue, SW., Washington, DC 20585, (202) 586-7432, E-mail: Francine.Pinto@ee.doe.gov.

SUPPLEMENTARY INFORMATION:

I. Background

II. Discussion

III. Public Participation

I. Background

Part B of Title III of the Energy Policy and Conservation Act (EPCA) authorizes DOE to establish energy conservation standards for various consumer products including those residential water heaters, direct heating equipment, and pool heaters. (42 U.S.C. 6295(e))

EPCA provides criteria for prescribing new or amended standards for covered products. Any new or amended standard for a covered product must be designed to achieve the maximum improvement in energy efficiency that is technologically feasible and economically justified. (42 U.S.C. 6295(o)(2)(A)) EPCA precludes the Department from adopting any standard that would not result in significant conservation of energy. (42 U.S.C. 6295(o)(3))

Pursuant to EPCA, DOE, on November 24, 2006, published in the Federal Register (FR) a notice of public meeting and availability of a Framework Document initiating its rulemaking for residential water heaters, direct heating equipment, and pool heaters. 71 FR 67825. On January 16, 2007, DOE held an informal public meeting to present its proposed methodologies for conducting the rulemaking, discuss issues relevant to the rulemaking proceeding, and initiate stakeholder interaction and the data collection process. Due to the extensive scope of material and issues raised at the public meeting, some stakeholders at the public meeting requested an extension to the comment period to have additional time to develop adequate and complete comments. The Department is however, committed to completing many rulemaking activities, including this one for residential water heaters, direct heating equipment, and pool heaters, by pre-established dates and cannot allow an extension that would potentially jeopardize its ability to meet its schedules.

II. Discussion

The Department recognizes the stakeholders' request for additional time to prepare comments, and because it encourages all stakeholders to provide comment, the Department is extending the comment period to February 13, 2007. The Department believes this additional time allows for the development and completion of stakeholder comments without posing a conflict to the DOE regarding its rulemaking schedules.

III. Public Participation

A. Submission of Comments

DOE will accept comments, data, and information regarding this notice no later than the date provided at the beginning of this notice. Comments, data, and information submitted to the Department's e-mail address for this rulemaking should be provided in WordPerfect, Microsoft Word, PDF, or text (ASCII) file format. Stakeholders should avoid the use of special characters or any form of encryption, and wherever possible, comments should include the electronic signature of the author. Absent an electronic signature, comments submitted electronically must be followed and authenticated by submitting a signed original paper document to the address provided at the beginning of this notice. Comments, data, and information submitted to the Department via mail or hand delivery/courier should include one signed original paper copy. No telefacsimiles (faxes) will be accepted.

According to 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include: (1) A description of the items; (2) whether and why such items are customarily treated as confidential within the industry; (3) whether the information is generally known or available from public sources; (4) whether the information has previously been made available to others without obligation concerning its confidentiality; (5) an explanation of the competitive injury to the submitting person which would result from public disclosure; (6) a date after which such information might no longer be considered confidential; and (7) why disclosure of the information would be contrary to the public interest.

B. Issues on Which DOE Seeks Comment

DOE is interested in receiving comments and views of interested parties concerning its proposed rulemaking methodologies as outlined in the Framework Document and presentation material provided at the January 16, 2007 public meeting. These materials are available at the following Web address: http://www.eere.energy.gov/buildings/appliance_standards/residential/pool_heaters.html.

Issued in Washington, DC, on January 25, 2007.
Alexander A. Karsner,
Assistant Secretary, Energy Efficiency and Renewable Energy.

[FR Doc. E7-1502 Filed 1-29-07; 8:45 am]

BILLING CODE 6450-01-P